DEPARTMENT OF ENERGY

Agency Information Collection Under Review By The Office of Management and Budget

AGENCY: Department of Energy.

ACTION: Submission for OMB review; comment request.

SUMMARY: The Department of Energy (DOE), pursuant to section 3507(g) of the Paperwork Reduction Act of 1995, intends to extend for three years, an information collection package with the Office of Management and Budget (OMB). The Department's Office of Environment, Safety and Health information collection package, OMB No. 1910-5105, allows the Department and its contractors to provide management control and oversight over health and safety programs concerning worker exposure to ionizing radiation.

DATES: Written comments and recommendations for the proposed collections of information must be mailed to the OMB Desk Officer, on or before June 18, 2001. If you anticipate that you will be submitting comments, but find it difficult to do so within the period of time allowed by this notice, please advise the OMB Desk Officer of your intention to make a submission as soon as possible. The Desk Officer may be telephoned at (202) 395-7318. In addition, please notify the DOE contact listed in this notice.

ADDRESSES: Address comments to the Office of Information and Regulatory Affairs, Office of Management and Budget, New Executive Office Building, Washington, DC 20503. Persons submitting comments to OMB are requested to send a copy to Dr. Judith D. Foulke, U.S. Department of Energy, Office of Worker Protection Policy and Programs (EH-52), Office of Environment, Safety and Health, 19901 Germantown Road, Germantown, MD 20874-1290.

FOR FURTHER INFORMATION CONTACT: Requests for copies of the Department's Paperwork Reduction Act Submission and other information should be directed to Ms. Susan L. Frey, U.S. Department of Energy, Director, Records Management Division, Office of Records and Business Management (SO-312), Office of the Chief Information Officer, Germantown, MD 20874-1290. Ms. Frey can be contacted by telephone at (301) 903-3666 or e-mail at Susan.Frey@hq.doe.gov.

SUPPLEMENTARY INFORMATION: This package contains: (1) Current OMB No. 1910-5105; (2) Package Title: Occupational Radiation Protection; (3) Summary: Request for a three-year extension without change, which covers mandatory responses; (4) Purpose: The recordkeeping and reporting requirements that comprise this information collection will permit DOE and its contractors to provide management control and oversight over health and safety programs concerning worker exposure to ionizing radiation; (5) Type of Respondents: 50 DOE management and operating contractors; (6) Estimated Number of Burden Hours: 50,000.

Statutory Authority: Sections 3507(h)(1) of the Paperwork Reduction Act of 1995 (Pub. L. No. 104-13) (44 U.S.C. 3501 et seq.).

Issued in Washington, DC on May 10, 2001.
Susan L. Frey,
Director, Records Management Division, Office of Records and Business Management, Office of the Chief Information Officer.

[FR Doc. 01-12540 Filed 5-17-01; 8:45 am]

BILLING CODE 6450-01-P